DEPARTMENT OF STATE

[Public Notice: 8707]

Shipping Coordinating Committee; Notice of Committee Meeting

The Shipping Coordinating Committee (SHC) will conduct an open meeting at 9:00 a.m. on Wednesday, May 28, 2014, in Room 05L18-01 of the United States Coast Guard Headquarters Building, 2703 Martin Luther King Jr. Ave SE., Washington, DC 20593. The primary purpose of the meeting is to prepare for the sixty-fourth Session of the International Maritime Organization (IMO) Technical Co-operation Committee (TCC 64) to be held at the IMO Headquarters, United Kingdom from June 11 to June 13, 2014 and the one hundred and twelfth Session of the IMO Council Session (C 112) to be held at the IMO Headquarters, United Kingdom, from June 16 to June 21, 2014.

The agenda items to be discussed include:

Sixty-Fourth Sesson of the Technical Co-Operation Committee

—Adoption of the agenda

—Work of other bodies and organizations

—Integrated Technical Co-operation Programme

—Financing of the Integrated Technical Co-operation Programme

—Linkage between the Integrated Technical Co-operation Programme and the Millennium Development Goals

—Partnerships for progress

—Voluntary IMO Member State Audit Scheme

—Integration of women in the maritime sector

—Global maritime training institutions

—Application of the Committee's Guidelines

—Work Programme

—Any other business

—Election of the Chairman and the Vice-Chairman for 2015

—Consideration of the report of the Committee on its sixty-fourth session

One Hundred and Twelfth Session of Council

—Adoption of the agenda

—Report of the Secretary-General on credentials

—Strategy, planning and reform

—Resource Management

—Human resource matters, including amendments to the Staff Regulations and Staff Rules

—Accounts and audit: final accounts for the finance period 2013 and transfers within the 2013 budget

—Report on investments

—Report on arrears of contributions and of advances to the Working Capital Fund and on the implementation of Article 61 of the IMO Convention

—Budget considerations for 2014

—Voluntary IMO Member State Audit Scheme

—Consideration of the report of the Marine Environment Protection Committee

—Consideration of the report of the Legal Committee

—Consideration of the report of the Maritime Safety Committee

—Consideration of the report of the Technical Co-operation Committee

—Technical Cooperation Fund: Report on activities of the 2013-2014 programmes

—World Maritime University:

—Report of the Board of Governors

—Budget

—IMO International Maritime Law Institute:

—Report of the Board of Governors

—Budget

—Protection of vital shipping lanes

—Periodic review of administrative requirements in mandatory IMO instruments

—External relations:

—Relations with the United Nations and the specialized agencies

—Joint Inspection Unit

—Relations with intergovernmental organizations

—Relations with non-governmental organizations

—World Maritime Day

—International Maritime Prize

—IMO Award for Exceptional Bravery at Sea

—Report on the status of the Convention and membership of the Organization

—Report on the status of conventions and other multilateral instruments in respect of which the Organization performs functions

—Place, date and duration of the next session of the Council

—Supplementary agenda items, if any

Members of the public may attend this meeting up to the seating capacity of the room. To have access to the building, or to request reasonable accommodation, those who plan to attend should contact the meeting coordinator; LCDR Matthew Frazee by email at matthew.p.frazee@uscg.mil or by phone at (202) 372-1376 not later than May 21, 2014. Please note that due to security considerations, two valid, government issued photo identifications must be presented to gain entrance to the Headquarters building. The Headquarters building is accessible by taxi and privately owned conveyance (public transportation is not generally available). However, parking in the vicinity of the building is extremely limited. Additional information regarding this and other IMO SHC public meetings may be found at: www.uscg.mil/imo.

Dated: April 18, 2014.
Marc Zlomek,
Executive Secretary, Shipping Coordinating Committee, Department of State.

[FR Doc. 2014-09453 Filed 4-24-14; 8:45 am]

BILLING CODE 4710-09-P